DEPARTMENT OF DEFENSE

GENERAL SERVICES ADMINISTRATION

NATIONAL AERONAUTICS AND SPACE ADMINISTRATION

48 CFR Parts 13, 25, 36, 49, and 52

[FAC 2025-02; Item III; Docket No. FAR-2024-0052; Sequence No. 4]

Federal Acquisition Regulation; Technical Amendments

AGENCY: Department of Defense (DoD), General Services Administration (GSA), and National Aeronautics and Space Administration (NASA).

ACTION: Final rule.

SUMMARY: This document amends the Federal Acquisition Regulation (FAR) to make needed editorial changes.

DATES: Effective: January 3, 2025.

FOR FURTHER INFORMATION CONTACT: Ms. Lois Mandell, Regulatory Secretariat Division (MVCB), at 202-501-4755 or GSARegSec@gsa.gov. Please cite FAC 2025-02, Technical Amendments.

SUPPLEMENTARY INFORMATION: This document makes editorial changes to 48 CFR parts 13, 25, 36, 49, and 52.

List of Subjects in 48 CFR Parts 13, 25, 36, 49, and 52

Government procurement.

William F. Clark,
Director, Office of Government-wide Acquisition Policy, Office of Acquisition Policy, Office of Government-wide Policy.

Therefore, DoD, GSA, and NASA amend 48 CFR parts 13, 25, 36, 49, and 52 as set forth below:

1. The authority citation for 48 CFR parts 13, 25, 36, 49, and 52 continues to read as follows:

Authority: 40 U.S.C. 121(c); 10 U.S.C. chapter 4 and 10 U.S.C. chapter 137 legacy provisions (see 10 U.S.C. 3016); and 51 U.S.C. 20113.

PART 13—SIMPLIFIED ACQUISITION PROCEDURES

13.302-5 [Amended]

2. Amend section 13.302-5, in paragraph (d)(4) by removing “52.213-4(b)(1)(xvii)(B)” and adding “52.213-4(b)(1)(xviii)(B)” in its place.

PART 25—FOREIGN ACQUISITION

25.101 [Amended]

3. Amend section 25.101, in paragraph (d)(2)(ii) by removing “52.213-4(b)(1)(xvii)(B)” and adding “52.213-4(b)(1)(xviii)(B)” in its place.

PART 36—CONSTRUCTION AND ARCHITECT-ENGINEER CONTRACTS

36.603 [Amended]

4. Amend section 36.603, in paragraph (c) introductory text, by removing from the last sentence “SF's 254 and 255” and adding “SF 330” in its place.

PART 49—TERMINATION OF CONTRACTS

49.601-2 [Amended]

5. Amend section 49.601-2 by—

a. Removing from the end of the introductory text, the undesignated text “LINE ITEMS, ETC.” ” and adding “Notice of Termination to Prime Contractors” in its place; and

b. Removing from the undesignated text before paragraph (a) “items, etc.” and adding “line items, etc.” in its place.

PART 52—SOLICITATION PROVISIONS AND CONTRACT CLAUSES

52.204-2 [Amended]

6. Amend section 52.204-2 by removing from the introductory text the word “clauses” and adding “clause” in its place.

52.204-7 [Amended]

7. Amend section 52.204-7 by adding the phrase “(End of provision)” after paragraph (d) and before the Alternate I.

8. Amend section 52.204-8 by revising the date of the provision, and removing from paragraph (c)(1)(xix) the phrase “include the clause at 52.204-7” and adding “include the provision at 52.204-7” in its place.

The revision reads as follows:

52.204-8 Annual Representations and Certifications.

* * * * *

Annual Representations and Certifications (JAN 2025)

* * * * *

52.204-19 [Amended]

9. Amend section 52.204-19 by removing from the introductory text “clause.” and adding “clause:” in its place.

10. Amend section 52.212-5 by—

a. Revising the date of the clause;

b. Removing from paragraph (b)(30) “(15 U.S.C. 657s)” and adding “(15 U.S.C. 637(a)(17))” in its place; and

c. Removing from paragraph (b)(49)(iii) the date “DEC 2022” and in its place adding (JAN 2025).

The revision reads as follows:

52.212-5 Contract Terms and Conditions Required To Implement Statutes or Executive Orders—Commercial Products and Commercial Services.

* * * * *

Contract Terms and Conditions Required To Implement Statutes or Executive Orders—Commercial Products and Commercial Services (JAN 2025)

* * * * *

11. Amend section 52.225-3 in Alternate II by—

a. Revising the date of the Alternate; and

b. Removing from paragraph (c) the phrase “provision entitled “Buy American—Free Trade Agreements—Israeli Trade Act.” ” and adding the phrase “provision entitled “Buy American—Free Trade Agreements—Israeli Trade Act Certificate.” ” in its place.

The revision reads as follows:

52.225-3 Buy American—Free Trade Agreements—Israeli Trade Act.

* * * * *

Alternate II (JAN 2025) * * *

* * * * *

12. Amend section 52.225-4—

a. In Alternate II by—

i. Revising the date of the Alternate; and

ii. Removing from paragraph (b) the phrases “ “Buy American—Free Trade Agreements—Israeli Trade Act—Balance of Payments Program”:” and “Israeli End Products” and adding the phrases “ “Buy American—Free Trade Agreements—Israeli Trade Act”.” and “Israeli End Products:” in their place.

b. In Alternate III by—

i. Revising the date of the Alternate; and

ii. Removing from paragraph (b) “ “Buy American—Free Trade Agreements—Israeli Trade Act”:” and adding “ “Buy American—Free Trade Agreements—Israeli Trade Act”.” in its place.

The revisions read as follows:

52.225-4 Buy American—Free Trade Agreements—Israeli Trade Act Certificate.

* * * * *

Alternate II (JAN 2025) * * *

* * * * *

Alternate III (JAN 2025) * * *

* * * * *

52.225-18 [Amended]

13. Amend section 52.225-18 by removing from the introductory text “solicitation provision” and adding “provision” in its place.

[FR Doc. 2024-29375 Filed 12-13-24; 8:45 am]

BILLING CODE 6820-EP-P